DEPARTMENT OF TRANSPORTATION

Pipeline and Hazardous Materials Safety Administration

Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before March 25, 2013.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on February 7, 2013.
Donald Burger,
Chief, General Approvals Permits.

Application No. | Docket No. | Applicant | Regulation(s) affected | Nature of special permits thereof
NEW SPECIAL PERMITS
15792-N |  | American Spraytechorth Branch, NJ | 49 CFR 173.306(a)(3)(v) | To authorize the transportation in commerce of certain aerosols containing a Division 2.2 compressed gas in non-refillable aerosol containers which are not subject to the hot water bath test. (mode 1).
15798-N |  | Lockheed Martin Aeronautics Company Fort Worth, TX | 49 CFR 173.62 | To authorize the transportation in commerce of aircraft fuselage assembles containing explosives in alternative packaging. (modes 1, 3, 4).
15799-N |  | Consumer Products Safety Commission (CPSC) | 49 CFR 173.21(i) | To authorize the one way transportation in commerce of lighters without LA approvals. (modes 1, 4).
15800-N |  | EQ Industrial Services, Inc. Ypsilanti, MI | 49 CFR 173.51(a), 173.56(i) | To authorize the transportation of small arms cartridges, flares, and other similar explosives that have been desensitized to remove their explosive characteristics, as Division 4.1 flammable solids. (mode 1).
15804-N |  | ThermoFisher Scientific, LLC Pittsburgh, PA | 49 CFR 172.101, HMT Column (7), and 107.102 Special Provision N5 | To authorize the transportation in commerce of dry titanium powder in glass packaging. (modes 1, 2, 3).
15806-N |  | Precision Technik Atlanta, GA | 49 CFR 173.201, 173.202, 173.203, 173.302a, 173.304a, and 180.209 | To authorize the manufacture, mark, sell, and use of non-DOT Specification salvage cylinders.
15807-N |  | U.S. Department of Defense (DOD) Scott AFB, IL | 49 CFR 171.22(e), 172.101 Column (9A), and (9B), 173.62 | To authorize the transportation of forbidden explosives by air. (modes 1, 2, 3, 4, 5).
15808-N |  | U.S. Department of Defense (DOD) Scott AFB, IL | 49 CFR 171.22(e), 172.101 Column (9A), and 173.62 | To authorize the transportation of forbidden explosives by air. (modes 1, 2, 3, 4, 5).
15809-N |  | Olin Corporation Oxford, MS | 49 CFR 173.63(b)(2)(v) | To authorize the transportation in commerce of .17 caliber rim-fire cartridges loosely packed in strong outside packagings. (modes 1, 2, 3, 4, 5).
15810-N |  | Action Manufacturing Company Atglen, PA | 49 CFR 173.56 | To authorize the one-way transportation of certain off-spec military explosives to an approved disposal facility without an EX classification. (mode 1).

[FR Doc. 2013-03784 Filed 2-21-13; 8:45 am]

BILLING CODE 4910-60-M